DEPARTMENT OF COMMERCE

International Trade Administration

University of Washington et al.: Notice of Decision on Applicationfor Duty-Free Entry of Scientific Instruments

This is a decision pursuant to Section 6(c) of the Educational, Scientific, and Cultural Materials Importation Act of 1966 (Pub. L. 89-651, as amended by Pub. L. 106-36; 80 Stat. 897; 15 CFR part 301). On June 16, 2025, September 16, 2025 and October 3, 2025, the Department of Commerce published a notice in the Federal Register requesting public comment on whether instruments of equivalent scientific value, for the purposes for which the instruments identified in the docket(s) below are intended to be used, are being manufactured in the United States. See Application(s) for Duty-Free Entry of Scientific Instruments 90 FR 25222, June 16, 2025; Application(s) for Duty-Free Entry of Scientific Instruments 90 FR 44632, September 16, 2025; and Application(s) for Duty-Free Entry of Scientific Instruments 90 FR 48024, October 3, 2025. We received no public comments.

Comments: None received. Decision: Approved. We know of no instrument of equivalent scientific value to the foreign instrument described below, for such purposes as this is intended to be used, that was being manufactured in the United States at the time of order.

Docket Number: 25-011. Applicant: University of Washington, 4300 Roosevelt Way NE, Roosevelt Commons West, Seattle, WA 98105-4718. Instrument: Femtosecond lasers with ultrahigh power. Manufacturer: Ultronphotonics Co. Ltd, China. Intended Use: The instrument is intended to study two-dimensional materials, which are atomically thin structures with unique quantum properties. It will also be used to investigate semiconductors to better understand how they process information and energy.

Docket Number: 25-012. Applicant: Harvard University, 60 Oxford Street, Room M01, Cambridge, MA 02138. Instrument: Narrow Linewidth Laser. Manufacturer: Shanghai Precilaser Technology Co. Ltd., China Intended Use: The instrument will be used in the construction and exploration of novel architectures for quantum information processing via a dual-species (rubidium and ytterbium), continuously reloaded atom array.

Docket Number: 25-015. Applicant: California Institute of Technology, 1200 E California Blvd., Pasadena, CA 91125. Instrument: Narrow Linewidth Laser System. Manufacturer: Shanghai Precilaser Technology Co. Ltd., China. Intended Use: The instrument will be used to conduct quantum science experiments with cesium-133 atoms to demonstrate deep quantum circuits and error-corrected quantum simulation.

Docket Number: 25-023. Applicant: University of California, Riverside, 3401 Watkins Drive, Riverside, CA 92521. Instrument: Basic 3D-microfabrication system with Piezo 100 microns—MicroFAB-3D. Manufacturer: MICROLIGHT3D SAS, France. Intended Use: The instrument is intended to be used to study microfluidic devices such as microneedles, microvalves, implantable optofluidic devices.

Docket Number: 25-028. Applicant: Utah State University, 4415 Old Main Hill, Logan, Utah 84322. Instrument: Energy Dispersive spectroscopy (EDS) and electron backscatter diffraction (EBSD) system. Manufacturer: Oxford Instruments America, Inc., United Kingdom. Intended Use: The instrument is intended to identify the chemical composition and atomic arrangments of materials such as biological cells and tissues, 3D printed metals, geological samples, metal-organic frameworks, components in medical devices, and semiconductors and optical devices.

Docket Number: 25-036. Applicant: Purdue University, 2550 Northwestern Avenue, West Lafayette, Indiana 47906. Instrument: Electron Probe Microanalyzer (EPMA) Manufacturer: Jeol USA Inc, Japan. Intended Use: The instrument is intended to be used to study the chemical composition of geologic and synthetic materials.

Docket Number: 25-037. Applicant: University of Illinois Chicago, 845 West Taylor Street, Chicago, Illinois 60607. Instrument: JEM-Z200MF: Monochromated-MARS NEOARM and EM-Z072152MONO: Field Emission Gun W/Monochromator. Manufacturer: Jeol Ltd. Japan. Intended Use: The instrument is intended to be used to study magnetic, superconducting, quantum, biological and 2-D materials, where the presence of a magnetic field otherwise affects their structural, optical, electronic or transport properties.

Docket Number: 25-038. Applicant: Northwestern University, 633 Clark Street, Evanston, Illinois 60208. Instrument: X-Ray Photoelectron Spectroscopy (XPS) Lab System Package. Manufacturer: Scienta Omicron, Germany. Intended Use: The instrument is intended to be used to study chemical functionalization of borophene.

Docket Number: 25-040. Applicant: Stevens Institute of Technology, Castle Point on Hudson, Hoboken, New Jersey 07030. Instrument: EasySpec SHG Second Harmonic Generation Microspectroscopy Testing System. Manufacturer: Metatest Corporation, China. Intended Use: The instrument is intended to be used to study crystal lattice direction in 2D materials.

Docket Number: 25-041. Applicant: Hampton University, 100 E Queen Street, Hampton, Virginia 23668. Instrument: JEM-2100PLUS—Transmission Electron Microscope and JB-29510VET Vacuum Evaporator. Manufacturer: JEOL Ltd., Japan. Intended Use: The instrument is intended to be used to advance understanding and development of semiconductors, nanostructured, opto-electronic and biomaterials.

Docket Number: 25-042. Applicant: University of Texas at Austin, 2515 Speedway, Austin, Texas 78712. Instrument: Dilution Refrigerator with Superconducting Magnets and Cold-Insertable Probes. Manufacturer: Leiden Cryogenics B.V., Netherlands. Intended Use: The instrument is intended to be used to study topological quantum physics in two-dimensional semiconductors such as graphene and transition-metal dichalcogenides.

Docket Number: 25-043. Applicant: University of Texas at Austin, 2515 Speedway, Austin, Texas 78712. Instrument: Low-temperature nanopositioners, scanners and controllers for high-vacuum environment. Manufacturer: Attocube Systems AG, Germany. Intended Use: The instrument is intended to be used to study topological quantum physics and strongly correlated electron physics in two-dimensional semiconductors such as graphene and transition-metal dichalcogenides.

Docket Number: 25-044. Applicant: Cornell University, 142 Sciences Drive, Ithaca, New York 14853. Instrument: Optical Elements. Manufacturer: FOCtek Photonics Inc., China. Intended Use: The instrument is intended to be used to study the efficiency of quantum algorithms using trapped ion systems and utilizing trapped ion systems as precision probes for search of new physics.

Docket Number: 25-045. Applicant: UChicago Argonne LLC, 9700 S Cass Avenue, Lemon, Illinois 60439. Instrument: CITIUS 280k Camera System. Manufacturer: KAI Scientific Limited, Japan. Intended Use: The instrument is intended to be used to study advanced materials and nanostructures, biological and soft matter systems and dynamic phenomena that are typical of modern Advanced Photon Source (APS) experiments.

Docket Number: 25-047. Applicant: UChicago Argonne LLC, 9700 S Cass Avenue, Lemon, Illinois 60439. Instrument: NAP-XPS System in Backfilling Configuration. Manufacturer: Specs TII Inc., Germany. Intended Use: The instrument is intended to be used to further the understanding of different materials and material properties (chemical state, defects and electronic structures) and their changes under different environments.

Docket Number: 25-048. Applicant: Bartelle Memorial Institute 902 Battelle Blvd., Richland, Washington 99354. Instrument: Betatron System—cyclic particle accelerator for electrons. Manufacturer: JME Advanced Inspection Systems, United Kingdom. Intended Use: The instrument is intended to be used to for both imaging and radiation effects testing in a variety of materials ranging from standard construction like materials (concrete and metals) to electronics. The instrument will also be used to test radiological detection instruments and commercial items (Cameras, robots) to determine how well they will work for radiological uses.

Docket Number: 25-049. Applicant: Stanford University, 348 Via Pueblo Rd., Stanford, California 94305. Instrument: Polarization maintaining, large mode-area hollow-core photonic crystal fiber. Manufacturer: NKT Photonics, Denmark. Intended Use: The instrument is intended to conduct experiments involving multimode optical cavities coupled to degenerate quantum gases of Dysprosium and will be used to study various classes of many-body Hamiltonians by exploiting Dysprosium's large magnetic dipole moment, stable and abundant fermionic and bosonic isotopes, large tensor polarizability, and the degenerate cavity's unique photon-mediated interactions.

Docket Number: 25-050. Applicant: Massachusetts Institute of Technology, 77 Massachusetts Ave., Cambridge, MA 02139. Instrument: Cryogen-Free Dilution Refrigerator (base temperature below 10mK, cooling power at 20mK of more than 20 µW, cooling power at 100mK of more than 400 µW, and cool down to base temperature in less than 30 hours unloaded). Manufacturer: Bluefors Inc., Finland. Intended Use: The instrument is intended to be used to perform research in superconducting quantum computing.

Docket Number: 25-051. Applicant: UChicago Argonne LLC, 9700 S Cass Avenume, Lemont, Illinois 60439. Instrument: Fully Motorized Transfer System, HQ2D MOT. Manufacturer: HQ Graphene Systems B.V., Netherlands. Intended Use: The instrument is intended to efficiently perform dry or semi-dry transfer processes of high-quality two-dimensional (2D) materials.

Docket Number: 25-052. Applicant: California State University Long Beach, 1250 Bellflower Blvd., Long Beach, CA 90840. Instrument: Dilution Refrigerator Insert (with cryogenic microwave filtering). Manufacturer: Oxford Instruments, U.K. Intended Use: The instrument is intended to study quantum materials with properties that are useful for future technologies in quantum information science and photovoltaics.

Docket Number: 25-053. Applicant: University of Wisconsin-Madison, 1150 University Ave., Madison, WI 53706. Instrument: Dilution Refrigerator System with Bottom—Loading Mechanism, Vibration Isolation, Optical Access and Vector Magnet (base temperature below 10 mK, cooling power greater than 250 μW at 100 mK and more than 12 μW at 20 mK). Manufacturer: Bluefors Inc., Finland. Intended Use: The instrument is intended to investigate 2D superconductivity and 2D magnetism as emergent quantum phenomena in 2D quantum materials.

Docket Number: 25-054. Applicant: Cornell University, 211 Clark Hall, 142 Sciences Drive, Ithaca, NT 14853. Instrument: Electron Microscope- TESCAN AMBER X 2 GMH S8251X S/N 124-0231. Manufacturer: TESCAN Group, Czech Republic. Intended Use: The instrument is intended to be used to view the structure and electronic properties of the material at the atomic scale to learn about its properties.

Docket Number: 25-055. Applicant: Massachusetts Institute of Technology, 77 Massachusetts Avenue, Cambridge, MA 02139. Instrument: Dilution Refrigerator with Passive Damper and Helium Battery (Base temperature below 10 mK, cooling power more than 14 µW at 20 mK, and cool down to base temperature in less than 24 hours unloaded). Manufacturer: Bluefors Inc., Finland. Intended Use: The instrument is intended to be used to study the electrical resistance of two-dimensional material devices, such as graphene.

Docket Number: 25-056. Applicant: University at Buffalo, The State University of New York, 224 Crofts Hall, Buffalo, NY 14260. Instrument: Duo-Axis Rotation Probe. Manufacturer: Multi-Field Low Temperature Technology (Beijing) Co., Ltd., China. Intended Use: The instrument is intended to provide precise measurements of superconducting thin films and quantum materials in cryogenic environments, supporting angular-dependent studies of critical current density and magnetic anisotropy.

Docket Number: 25-057. Applicant: Yale School of Medicine, 899 Howard Avenue, CMHC, New Haven, CT 06519. Instrument: Supernova-100 Miniature two-photon microscopy imaging system (mini 2-photon imaging with two lasers and two different wavelengths). Manufacturer: Transcend Vivoscope, China. Intended Use: The instrument is intended to investigate the effects of the primary cannabionoids found in cannabis, tetrahydrocannabinol (THC) and cannabidiol (CBD) on neurodevelopment when exposure occurs during early life.

Dated: November 26, 2025.
Tyler O'Daniel,
Acting Director, Subsidies Enforcement, Enforcement and Compliance.

[FR Doc. 2025-21740 Filed 12-1-25; 8:45 am]

BILLING CODE 3510-DS-P